NUCLEAR REGULATORY COMMISSION

[Docket Nos. 50-336 and 50-423-LA; ASLBP No. 00-783-09-LA]

Northeast Nuclear Energy Company, Millstone Nuclear Power Station, Unit Nos. 2 and 3; Establishment of Atomic Safety and Licensing Board

Pursuant to delegation by the Commission dated December 29, 1972, published in the Federal Register, 37 FR 28,710 (1972), and Sections 2.105, 2.700, 2.702, 2.714, 2.714a, 2.717, 2.721 of the Commission's Regulations, all as amended, an Atomic Safety and Licensing Board is being established to preside over the following proceeding:

Northeast Nuclear Energy Company, Millstone Nuclear Power Station, Unit Nos. 2 and 3

This Board is being established pursuant to the request for hearing submitted by the Connecticut Coalition Against Millstone and the Star Foundation. The request was filed in response to a license amendment request of Northeast Nuclear Energy Company for the Millstone Nuclear Power Station, Unit Nos. 2 and 3. A notice of consideration of the amendment request, proposed no significant hazards consideration determination, and opportunity for hearing was published in the Federal Register at 65 FR 48,744, 48,754 (Aug. 9, 2000).

The Board is comprised of the following administrative judges:

Administrative Judge Ann M. Young, Chairman, Atomic Safety and Licensing Board Panel, U.S. Nuclear Regulatory Commission, Washington, D.C. 20555-0001

Administrative Judge Thomas S. Moore, Atomic Safety and Licensing Board Panel, U.S. Nuclear Regulatory Commission, Washington, D.C. 20555-0001

Administrative Judge Charles N. Kelber, Atomic Safety and Licensing Board Panel, U.S. Nuclear Regulatory Commission, Washington, D.C. 20555-0001

All correspondence, documents, and other materials shall be filed with the Judges in accordance with 10 CFR 2.701.

Issued at Rockville, Maryland, this 19th day of September 2000.
G. Paul Bollwerk, III,
Chief Administrative Judge, Atomic Safety and Licensing Board Panel.

[FR Doc. 00-24578 Filed 9-22-00; 8:45 am]

BILLING CODE 7590-01-P